DEPARTMENT OF TRANSPORTATION

Federal Aviation Administration

14 CFR Part 25

[Docket No. FAA-2021-0775; Notice No. 25-21-03-SC]

Special Conditions: FedEx Express, Airbus Model A321-200 Airplanes; Installation of an Infrared Laser Countermeasure System

AGENCY: Federal Aviation Administration (FAA), DOT.

ACTION: Notice of proposed special conditions; withdrawal.

SUMMARY: The FAA is withdrawing the Notice of Proposed Special Conditions that published in the Federal Register on January 18, 2022.

DATES: As of January 20, 2022, the notice of proposed special conditions published on January 18, 2022, at 87 FR 2561 is withdrawn.

FOR FURTHER INFORMATION CONTACT: Eric Peterson, Safety Risk Management Section, AIR-633, Policy and Innovation Division, Aircraft Certification Service, Federal Aviation Administration, 2200 South 216th Street, Des Moines, Washington 98198; telephone and fax 206-231-3413; email Eric.M.Peterson@faa.gov.

SUPPLEMENTARY INFORMATION:

Background

On January 18, 2022, the FAA published in the Federal Register, 87 FR 2561, a Notice of Proposed Special Conditions No. 25-21-03-SC, Docket No. FAA-2021-0775. The published proposed special conditions pertain to design features for the Airbus Model A321-200 airplane.

Reason for Withdrawal

The FAA has determined that further internal study is necessary with respect to the proposed conditions referenced above. Therefore, to avoid confusion to the public and a comment period on a proposal that the agency is not moving forward at this time, the FAA is withdrawing the notice.

Conclusion

The Notice of Proposed Special Conditions No. 25-21-03-SC, Docket No. FAA-2021-0775, published at 87 FR 2561, is therefore withdrawn.

Brandon Roberts,
Executive Director, Office of Rulemaking.

[FR Doc. 2022-01123 Filed 1-18-22; 11:15 am]

BILLING CODE 4910-13-P